DEPARTMENT OF HOMELAND SECURITY

Bureau of Customs and Border Protection

Notice of Cancellation of Customs Broker License

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker licenses are canceled without prejudice.

Name | License No. | Issuing port
John A. Steer, Inc | 11397 | New York.
Quantum Logistics, Inc | 20326 | Great Falls.
V. Monte Custom Broker, Inc | 10032 | New York.
Sea Air Cargo Forwarder of NJ, Inc | 14214 | New York.
George E. Roberts | 01856 | New York.
World Commerce Services, Inc | 12649 | Los Angeles.

Dated: August 19, 2004.
Jayson P. Ahern,
Assistant Commissioner, Office of Field Operations.

[FR Doc. 04-19579 Filed 8-26-04; 8:45 am]

BILLING CODE 4820-02-P